DEPARTMENT OF HEALTH AND HUMAN SERVICES

Centers for Medicare & Medicaid Services

[Document Identifier: CMS-10853]

Agency Information Collection Activities: Proposed Collection; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by July 3, 2023.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number: __, Room C4-26-05, 7500 Security Boulevard, Baltimore, Maryland 21244-1850.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS 10853 Patient Provider Dispute Resolution Requirements Related to Surprise Billing: Part II

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: New collection (Request for a new OMB control number); Title of Information Collection: Patient Provider Dispute Resolution Requirements Related to Surprise Billing: Part II; Use: The Consolidated Appropriations Act, 2021 (CAA), which includes the No Surprises Act provides Federal protections against surprise billing and limits out-of-network cost sharing under many of the circumstances in which surprise bills arise most frequently.

The Act adds a new Part E of title XXVII of the Public Health Service Act establishing requirements applicable to providers, and facilities. These include provisions at new PHS Act sections 2799B-6 which requires providers and facilities to furnish a good faith estimate of expected charges upon request or upon scheduling an item or service for an individual. Providers and facilities are required to inquire if an individual is enrolled in a group health plan, group or individual health insurance coverage, a Federal Employees Health Benefits (FEHB) plan, or a Federal health care program and if enrolled in a group health plan, or group or individual health insurance coverage, or a health benefits plan under chapter 89 of title 5, whether the individual is seeking to have a claim for such item or service submitted to such plan or coverage (hereafter referred to as an “uninsured (or self-pay) individual”). In the case that an uninsured (or self-pay) individual requesting a good faith estimate for an item or service or schedules an item or service to be furnished, PHS Act section 2799B-6(2)(B) and the October 2021 interim final rules at 45 CFR 149.610 require providers and facilities to furnish the good faith estimate to the uninsured (or self-pay) individual.

No Surprises Act section 112 also adds PHS Act section 2799B-7 as added by the interim final rules at 45 CFR 149.620 which directs the Secretary of HHS to establish a process under which an uninsured (or self-pay) individual can avail themselves of a patient-provider dispute resolution (PPDR) process if their billed charges after receiving an item or service are substantially in excess of the expected charges listed in the good faith estimate furnished by the provider or facility, pursuant to PHS Act section 2799B-6. This information collection request (ICR) focuses on the patient-provider dispute resolution process requirements under the October 2021 interim final rules (October 7, 2021, 86 FR 55980).

Dated: April 26, 2023.
William N. Parham, III,
Director, Paperwork Reduction Staff, Office of Strategic Operations and Regulatory Affairs.

[FR Doc. 2023-09198 Filed 5-1-23; 8:45 am]

BILLING CODE P